FEDERAL COMMUNICATIONS COMMISSION

47 CFR Part 25

[IB Docket No. 12-267; DA 16-367]

Comment Sought on Implementation of Transmitter Identification Requirements for Video Uplink Transmissions

AGENCY: Federal Communications Commission.

ACTION: Proposed rule.

SUMMARY: The Federal Communications Commission (Commission) seeks comment on the appropriate schedule for implementing carrier identification requirements for digital video uplink transmissions, which were adopted by the Commission in August 2013.

DATES: Submit comments on or before June 30, 2016, and replies on or before July 15, 2016.

ADDRESSES: You may submit comments, identifying IB Docket No. 12-267, by any of the following means:

• Federal Communications Commission's Web site: http://apps.fcc.gov/ecfs. Follow the instructions for submitting comments.

• People with Disabilities: Contact the FCC to request reasonable accommodations (accessible format documents, sign language interpreters, CART, etc.) by email: FCC504@fcc.gov or phone: 202-418-0530 or TTY: 202- 418-0432.

For detailed instructions for submitting comments and additional information on the rulemaking process, see the SUPPLEMENTARY INFORMATION section of this document.

FOR FURTHER INFORMATION CONTACT: Clay DeCell, 202-418-0803.

SUPPLEMENTARY INFORMATION: This is a summary of the Commission's document, DA 16-367, released April 6, 2016. The full text of this document is available at https://apps.fcc.gov/edocs_public/attachmatch/DA-16-367A1.pdf. It is also available for inspection and copying during business hours in the FCC Reference Information Center, Portals II, 445 12th Street SW., Room CY-A257, Washington, DC 20554. To request materials in accessible formats for people with disabilities, send an email to FCC504@fcc.gov or call the Consumer & Governmental Affairs Bureau at 202-418-0530 (voice), 202-418-0432 (TTY).

Synopsis

By this Public Notice, we seek comment on the appropriate schedule for implementing carrier identification requirements for digital video uplink transmissions, as adopted by the Commission in August 2013.

Background. Since 1991, the Commission has required satellite uplink transmissions carrying “broadband” video information to include a signal identifying the source of the transmission. This signal, produced by an Automatic Transmitter Identification System (ATIS), allows satellite operators that may be receiving interference from the video transmission to more quickly identify and address the source of interference.

In August 2013, the Commission updated the ATIS requirement in 47 CFR 25.281 to better accommodate digitally modulated video transmissions. Comprehensive Review of Licensing and Operating Rules for Satellite Services, Report and Order, FCC 13-111, 28 FCC Rcd 12403, 12466-70, paras. 208-220 (2013). Specifically, for digital video uplinks from temporary-fixed earth stations, the Commission replaced the requirement to transmit a 7.1 megahertz subcarrier signal with a requirement to include a spread-spectrum ATIS message conforming to a modern industry standard.

The record in the 2013 proceeding indicated that the new ATIS requirement for digital video could be accommodated by replacing the equipment with new facilities incorporating an embedded modulator or upgrading existing earth station equipment with an external modulator. Based on this record, the Commission adopted a two-year grace period for operators to bring their equipment into compliance with the new ATIS rule in 47 CFR 25.281(b). The Commission concluded that two years was a sufficient implementation period, and declined a proposed five-year phase-in schedule, because it was not requiring the ATIS to be embedded and therefore not requiring existing facilities to be replaced.

Recent information from affected earth station operators, and independent staff market surveillance, indicate that suitable external modulators have not become widely available. Many earth station operators would therefore be unable to retro-fit their current transmitting equipment in order to comply with 47 CFR 25.281(b), and instead would need to replace the equipment at considerably greater expense than anticipated when the rule was adopted.

Temporary Waiver Order. On March 4, 2016, we issued a waiver of 47 CFR 25.281(b) for a period of one year, beginning on September 3, 2016, the date for compliance with the new requirement. Temporary Waiver of Section 25.281(b) Transmitter Identification Requirements for Video Uplink Transmissions, Order, DA 16-222 (IB 2016). The waiver was adopted to allow additional time for comment and development of an updated record on the appropriate implementation schedule for the new ATIS requirement.

Comment Sought. We now seek comment on the appropriate timeframe for implementation of the carrier identification requirement for digital video transmissions. In particular, we invite comment on the costs to both earth station operators and space station operators of further delaying the effective date of the requirement. We specifically request that commenters provide supporting materials such as technical documentation and price quotations for equipment compliant with the carrier identification requirement. We note that the World Broadcasting Unions have resolved that the ATIS (Carrier ID) requirement be implemented by no later than January 1, 2018.

Interested parties may file comments and reply comments in IB Docket No. 12-267 on or before the dates indicated in the DATES section of this document. Comments may be filed using the Commission's Electronic Comment Filing System (ECFS). See Electronic Filing of Documents in Rulemaking Proceedings, 63 FR 24121 (1998).

• Electronic Filers: Comments may be filed electronically using the Internet by accessing the ECFS: http://apps.fcc.gov/ecfs/.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

People with Disabilities: To request materials in accessible formats for people with disabilities (braille, large print, electronic files, audio format), send an email to fcc504@fcc.gov or call the Consumer & Governmental Affairs Bureau at 202-418-0530 (voice), 202-418-0432 (TTY).

Documents in IB Docket No. 12-267 are available for public inspection and copying during business hours at the FCC Reference Information Center, Portals II, 445 12th St. SW., Room CY A257, Washington, DC 20554.

Ex parte status. This matter will be treated as a “permit-but-disclose” proceeding in accordance with the Commission's ex parte rules. Persons making ex parte presentations must comply with 47 CFR 1.1206(b).

Paperwork Reduction Act

This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Federal Communications Commission.
Stephen Duall,
Chief, Policy Branch, International Bureau.

[FR Doc. 2016-12691 Filed 5-27-16; 8:45 am]

BILLING CODE 6712-01-P